DEPARTMENT OF HEALTH AND HUMAN SERVICES

National Institutes of Health

Proposed Collection; 60-Day Comment Request; Generic Clearance to Conduct Formative Research (NIAID)

AGENCY: National Institutes of Health, Department of Health and Human Services.

ACTION: Notice.

SUMMARY: In compliance with the requirement of the Paperwork Reduction Act of 1995 to provide opportunity for public comment on proposed data collection projects, the National Institute of Allergy and Infectious Diseases (NIAID) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Dione Washington, Health Science Policy Analyst, Strategic Planning and Evaluation Branch, 5601 Fishers Lane, Room 5F32, Rockville, Maryland, 20892 or Email your request, including your address to: washingtondi@niaid.nih.gov. Formal requests for additional plans and instruments must be requested in writing.

SUPPLEMENTARY INFORMATION: Section 3506(c)(2)(A) of the Paperwork Reduction Act of 1995 requires: written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Generic Clearance to Conduct Formative Research (NIAID), 0925-NEW, National Institute of Allergy and Infectious Diseases (NIAID), National Institutes of Health (NIH).

Need and Use of Information Collection: The purpose of this Generic is for information collections to improve research approaches and final product development to identify emergent infectious disease threats and comorbidities related to the needs of diverse audiences. The information to be collected as part of this generic clearance will allow the agency to make appropriate adjustments in content and methods used in developmental and testing stages in order to improve research approaches and final product development.

OMB approval is requested for 3 years. There are no costs to respondents other than their time. The total estimated annualized burden hours are 31,950.

Estimated Annualized Burden Hours
Research method | Number of respondents | Number of responses per respondent | Average burden per response (in hours) | Total annual burden in hours
Focus Group Screeners | 2,000 | 1 | 15/60 | 500
Interview Screeners/Surveys | 2,000 | 1 | 15/60 | 500
Focus Groups | 4,000 | 1 | 2 | 8,000
Pretesting | 1,000 | 1 | 1 | 1,000
Dyad/Triad Interviews | 4,000 | 1 | 90/60 | 6,000
In-depth Interviews (IDI) | 6,000 | 1 | 90/60 | 9,000
Surveys | 7,000 | 1 | 30/60 | 3,500
Patient questionnaires | 4,500 | 1 | 30/60 | 2,250
Market research | 300 | 1 | 4 | 1,200
Total | 30,800 | 30,800 |  | 31,950

Dated: August 31, 2017.
Brandie Taylor,
Project Clearance Liaison, NIAID, NIH.

[FR Doc. 2017-20367 Filed 9-22-17; 8:45 am]

BILLING CODE 4140-01-P